DEPARTMENT OF LABOR

Employment and Training Administration Apprenticeship Training, Employer and Labor Services; Proposed Collection; Labor Standards for the Registration of Apprenticeship Programs; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision of the collection of the registered apprenticeship program under Title 29 CFR part 29 (Labor Standards for the Registration of Apprenticeship Programs).

A copy of the proposed information collection request (ICR) can be obtained by contacting the office listed below in the addressee section of this notice.

DATES: Written comments must be submitted to the office listed in the addressee's section below on or before February 25, 2002.

ADDRESSES: Anthony Swoope, Administrator, Office of Apprenticeship Training, Employer and Labor Services, 200 Constitution Ave., NW., Room N-4671, Washington, DC 20210; Telephone number: (202) 693-2796 (this is not a toll-free number); E-mail Internet address: aswoope@doleta.gov; and Fax number (202) 693-2761.

SUPPLEMENTARY INFORMATION:

I. Background

The National Apprenticeship Act of 1937 authorizes and directs the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education ***” (29 U.S.C. 50). Section 50a of the Act authorizes the Secretary of Labor to “publish information relating to existing and proposed labor standards of apprenticeship,” and to “appoint national advisory committees * * *” (29 U.S.C. 50a).

Title 29 CFR part 29 sets forth labor standards to safeguard the welfare of apprentices, and to extend the application of such standards by prescribing policies and procedures concerning registration, for certain Federal purposes, of acceptable apprenticeship programs with the U.S. Department of labor, Employment and Training Administration, Office of Apprenticeship Training, Employer and Labor Services (formerly known as the Bureau of Apprenticeship and Training). These labor standards, policies and procedures cover registration, cancellation, and deregistration of apprenticeship programs and the apprenticeship agreements; the recognition of a State agency as the appropriate agency for registering local apprenticeship programs for certain Federal purposes; and matters relating thereto.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

III. Current Actions

Recordkeeping and data collection activities regarding registered apprenticeship are by-products of the registration system. Organizations which apply for apprenticeship sponsorship enter into an agreement with the Federal Government or cognizant State government to operate their proposed programs consistent with 29 CFR part 29. Apprenticeship sponsors are not required to file reports regarding their apprentices other than individual registration and update information as an apprentice moves through their program. This revision request includes revisions to the Apprenticeship Agreement Form (ETA 671) as follows:

1. Current format (Apprenticeship Agreement ETA Form 671) Revised February 2000) of sponsor and apprentice inverted. To facilitate and increase efficiency when the apprentice registers and to align the form with current processes and procedures in our program.

2. Revisions on race and ethnicity. To provide uniformity and comparability in collecting this data as mandated by the Office of Management and Budget (OMB) Notice, Standards for the Classification of Federal Data on Race and Ethnicity, in the Federal Register (October 30, 1997).

3. Career linkage or Direct Entry. To comply with the U.S. Department of Labor/Employment and Training Administration (USDOL/ETA) and the Office of Management and Budget (OMB). The current Item 16., Apprenticeship School Linkage, has been enhanced to facilitate the tracking of participants from additional USDOL/ETA programs who continue with higher-skills occupational training or direct entry participants from technical training programs that have been reviewed and approved by the sponsor.

4. Apprentice entry hourly wage. To track wage progression more accurately and for Government Performance Results Act (GPRA) purposes.

5. Additional instructions on reverse side of form. To provide instructions on those data elements that are not self-explanatory as requested previously by OMB.

These proposed changes will pose minimal burden on the respondents. The change in burden is due to an increase in the number of apprentice actions from that of the previous PRA submission.

Type of Review: Revision.

Agency: Employment and Training Administration.

Title: Title 29 CFR part 29, Labor Standards for the Registration of Apprenticeship Programs.

OMB Number: 1205-0223 for 29 CFR part 29.

Agency Number: ETA Form 671.

Recordkeeping: Apprenticeship sponsors are required to keep accurate records on recruitment, selection of the applicant and/or apprentice and the employment and training activities related to the apprentice and the qualifications of each applicant/ apprentice pertaining to determination of compliance with the regulation. Records must be retained, where appropriate, regarding affirmative action plans and evidence that qualification standards have been validated. State Apprenticeship Councils are also obligated to keep adequate records pertaining to determination of compliance with these regulations. All of the above records are required to be maintained for five years. If this information was not required, there would be no documentation that the apprenticeship programs were being operated in a nondiscriminatory manner. Many apprenticeship programs are 4 years or more in duration; therefore, it is important to maintain the records for at least 5 years.

Affected Public: Apprentices, Sponsors, State Apprenticeship Councils or Agencies, Tribal Government.

ETA Form 671

Total Respondents: 238,929.

Frequency: 1-time basis.

Total Responses: 238,929.

Average Time per Response: See Chart.

Estimated Total Burden Hours: 47,556.

Summary of Burden for 29 CFR Part 29
Sec. | Total respondents | Frequency | Total responses | Average time per responses | Burden hours
29.3 | 127,421 | 1-time basis | 127,421 | ¼ hr./app. | 31,855
29.6 | 108,124 | 1-time basis | 108,124 | 1/12 hr./app. | 9,010
29.5 | 1,674 | 1-time basis | 1,674 | 2 hrs./spon. | 3,348
| 1,640 | 1-time basis | 1,640 | 2 hrs./SAC | 3,280
29.7 | 40 | 1-time basis | 40 | 1/12 hr./spon. | 3
29.12 | (30) | 1-time basis | (30) | 0 | 0
29.12 | (accomplished in 1977; no new state agency expected in 2002)
29.12 | 30 | 1-time basis | 30 | 2 hrs. SAC | 60
29.13 | 0 | 0 | 0 | 0 | 0
Totals | 238,929 |  | 238,929 |  | 47,556

Totals Burden Cost (capital/startup): 0.

Total Burden Cost (operating/maintaining): 0.

Comments submitted in response to this comment request will be summarized and/or included in the request for office of Management and Budge approval of the information collection request; they will also become a matter of public record.

Dated: December 20, 2001.
Anthony Swoope,
Administrator, Office of Apprenticeship Training, Employer and Labor Services.

[FR Doc. 01-31777 Filed 12-26-01; 8:45 am]

BILLING CODE 4510-30-P